DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 27, 2001.

Interested persons are invited to submit written comments regarding the subject matter of the investigations to the Director, Division of Trade Adjustment Assistance, at the address shown below, not later than August 27, 2001.

The petitions filed in this case are available for inspection at the Office of the Director, Division of Trade Adjustment Assistance, Employment and Training Administration, U.S. Department of Labor, Room C-5311, 200 Constitution Avenue, NW., Washington, DC 20210.

Signed at Washington, DC this 25th day of June, 2001.
Edward A. Tomchick,
Director, Division of Trade Adjustment Assistance.

Appendix
[Petitions Instituted on 06/25/2001]
TA-W | Subject firm (petitioners) | Location | Date of petition | Product(s)
39,475 | Thomas and Betts Corp (Co.) | Vidalia, GA | 06/01/2001 | Safety Switches
39,476 | Alarama (Wrks) | Long Island Cty, NY | 06/02/2001 | Fine Jewerly
39,477 | NY Co Minerals, Inc. (Wrks) | Wilsbors, NY | 05/31/2001 | Fine Grinds
39,478 | Window Concepts, Inc. (Wrks) | Wilson, NC | 06/06/2001 | Vertical Blinds
39,479 | Spectrum Controls, Inc (Wrks) | Fairview, PA | 06/01/2001 | Filters, Amps and Connectors
39,480 | Anvil International (Wrks) | Statesboro, GA | 06/06/2001 | Machine Screw Fittings, Flange Fittings
39,481 | Elders Manufacturing (UNITE) | Dexter, MO | 06/04/2001 | Parochial School Uniforms
39,482 | Colorgraphic Web Offset (Wrks) | Lancaster, NY | 05/28/2001 | Printed Periodicals
39,483 | Franklin Industries (Wrks) | Franklin, PA | 06/08/2001 | Steel of T-Posts
39,484 | Cooper Wood Products (Wrks) | Rocky Mount, VA | 05/31/2001 | Mirror Frames and Parts
39,485 | Senior Automotive (Co.) | Bartlett, IL | 06/06/2001 | Exhaust Gas Recirculation Systems
39,486 | Oneal Steel, Weldment Div (Wrks) | Roanoke, VA | 06/06/2001 | Steel Parts from Prints
39,487 | Perlos, Inc (Wrks) | Ft. Worth, TX | 06/05/2001 | Mobile Phones
39,488 | Coldwater Machine Co LLC (Wrks) | Coldwater, OH | 06/05/2001 | Dies, Fixtures, Tools, Special Machines
39,489 | California Cedar Products (Co.) | Roseburg, OR | 06/07/2001 | Pencil Stock
39,490 | Sagebrush Corp (Wrks) | Caledonia, MN | 06/05/2001 | Technical Support of Software
39,491 | Stearns, Inc. (Wrks) | Paynesville, MN | 05/31/2001 | Personal Flotation Devices
39,492 | APW, Ltd (Wrks) | Erie, PA | 06/06/2001 | Large Format Engineering Copiers
39,493 | Tennessee Machine (Co.) | Dandridge, TN | 06/07/2001 | Hosiery and Athletic Socks
39,494 | Empire Wood Carving Co (Wrks) | Chicago, IL | 06/01/2001 | Wood Carved Furniture Components
39,495 | Cold Metal Products Co (IAMAW) | New Britain, CT | 06/01/2001 | Steel Rolling & Slitting & Finishing
39,496 | Master Products Mfg Co (Wrks) | Los Angeles, CA | 06/01/2001 | Paper Punches and Related Products
39,497 | Superior Electric (Co.) | Bristol, CT | 06/07/2001 | Stepper Motors
39,498 | Hibbing Taconite (Wrks) | Hibbing, MN | 06/05/2001 | Iron Ore Pellets
39,499 | Tescom Corp. (Wrks) | Elk River, MN | 06/07/2001 | Regulators and Valves
39,500 | M. Fine and Sons (Wrks) | Killen, AL | 06/07/2001 | Distribute Denim Jeans
39,501 | Thomas Iseri Produce Co (Co.) | Ontario, OR | 06/11/2001 | Pack and Ship Dry Onions
39,502 | Recmix of PA, Inc (Wrks) | Canonsburg, PA | 06/12/2001 | Recycles Stainless Steel Slag
39,503 | Thomson Financial Research (Co.) | Ft. Lauderdale, FL | 06/08/2001 | Data Collection, Development
39,504 | Mayflower Manufacturing (UNITE) | Old Forge, PA | 06/08/2001 | Men's and Boys' Slacks
39,505 | Cuyahoga Steel and Wire (Wrks) | Solon, OH | 06/08/2001 | Cold Finished Steel Bar and Wire
39,506 | Unico (Wrks) | Sanford, ME | 06/14/2001 | Injection Molded Shoe Soles
39,507 | Bess Manufacturing Co (Wrks) | Philadelphia, PA | 06/12/2001 | Table Linens
39,508 | Duo-Fast Corp. (Co.) | Cleveland, MS | 06/05/2001 | Plastic Collated Nails and Staples
39,509 | E-Town Sportswear (UNITE) | Elizabethtown, KY | 06/12/2001 | Men's Slacks
39,510 | Cadmus Professional (Wrks) | Akron, PA | 06/01/2001 | Floppy Disks
39,511 | Philips Display Component (Wrks) | Ottawa, OH | 05/24/2001 | TV Tubes Mount and Gun Parts
39,512 | Royce Hosiery Mills, Inc (Wrks) | High Point, NC | 06/06/2001 | Men's and Ladies' Casual Socks
39,513 | Weyerhaeuser Co (AWPPW) | Springfield, OR | 06/08/2001 | Linerboard
39,514 | Guilford Mills, Inc. (Co.) | Greensboro, NC | 06/05/2001 | Ladies' Swimwear and Intimate Apparel
39,515 | Teledyne Electronic (Co.) | Hawthorne, CA | 06/04/2001 | Electomechanical Relays

[FR Doc. 01-20474 Filed 8-14-01; 8:45 am]

BILLING CODE 4510-30-M